DEPARTMENT OF JUSTICE

Notice of Lodging of Proposed Consent Decree Under the Clean Water Act, the Oil Pollution Act of 1990, and the Pipeline Safety Laws

On March 13, 2020, the Department of Justice lodged a proposed Consent Decree with the United States District Court for the Central District of California (“Court”) in the lawsuit entitled United States and the People of the State of California v. Plains All American Pipeline, L.P. et al., Civil Action No. 2:20-cv-02415 (C.D. Cal.). At the request of the public, the Department of Justice is extending the public comment period for an additional 30 days.

The United States filed a Complaint against Plains All American Pipeline, L.P. and Plains Pipeline, L.P. (jointly, “Plains”) arising out of Plains' violations of pipeline safety laws and liability for the May 19, 2015, discharge of approximately 2,934 barrels of crude oil from Plains' Line 901, located near Refugio State Beach and Santa Barbara, California. The Complaint seeks penalties, injunctive relief, and natural resource damages and assessment costs for the United States, on behalf of the United States Department of Transportation, Pipeline and Hazardous Materials Safety Administration; the United States Environmental Protection Agency; the United States Department of the Interior; the United States Department of Commerce, National Oceanic and Atmospheric Administration; and the United States Coast Guard. The United States' claims are brought, as applicable, under the Pipeline Safety Laws, 49 U.S.C. 60101 et seq.; the Clean Water Act, 33 U.S.C. 1251 et seq.; and the Oil Pollution Act of 1990, 33 U.S.C. 2701 et seq. The State of California is a co-plaintiff signatory to the Complaint under applicable State of California laws, and a signatory to the proposed Consent Decree, which also resolves certain State of California claims.

The proposed Consent Decree requires Plains to: (1) Pay $24 million in penalties; (2) implement injunctive relief to improve Plains' nationwide pipeline system, in addition to modifying operations relating to the May 19, 2015, oil discharge from Plains' Line 901; and (3) pay $22.325 million in natural resource damages. Plains previously reimbursed the United States and the State of California approximately $10 million for natural resource damage assessment costs, and the United States approximately $4.26 million for removal or clean-up costs.

Notice of lodging of the Consent Decree was originally published in the Federal Register on March 19, 2020. See 85 FR 15,815 (March 19, 2020). The publication of the original notice opened a thirty (30) day period for public comment on the Consent Decree. The publication of the present notice extends the period for public comment on the Consent Decree until May 20, 2020.

Comments should be addressed to the Assistant Attorney General, Environment and Natural Resources Division, and should refer to United States and the People of the State of California v. Plains Pipeline, L.P. et al., D.J. Ref. No. 90-5-1-1-11340. All comments must be submitted no later than May 20, 2020. Comments may be submitted either by email or by mail:

To submit comments: | Send them to:
By email | pubcomment-ees.enrd@usdoj.gov.
By mail | Assistant Attorney General, U.S. DOJ—ENRD, P.O. Box 7611, Washington, DC 20044-7611.

During the public comment period, the lodged proposed Consent Decree may be examined and downloaded at this Justice Department website: https://www.usdoj.gov/enrd/consent-decrees.

We will provide a paper copy of the Consent Decree upon written request and payment of reproduction costs. Please mail your request and payment to: Consent Decree Library, U.S. DOJ—ENRD, P.O. Box 7611, Washington, DC 20044-7611.

Please enclose a check or money order for $25.50 (25 cents per page reproduction cost) payable to the United States Treasury, for a paper copy of the proposed Consent Decree.

Henry S. Friedman,
Assistant Section Chief, Environmental Enforcement Section, Environment and Natural Resources Division.

[FR Doc. 2020-06500 Filed 3-27-20; 8:45 am]

BILLING CODE 4410-15-P